DEPARTMENT OF HEALTH AND HUMAN SERVICES

Food and Drug Administration

[Docket No. FDA-2009-N-0351]

Seafood Hazard Analysis and Critical Control Points Alliance for Education and Training (U18)

AGENCY: Food and Drug Administration, HHS.

ACTION: Notice.

SUMMARY: The Food and Drug Administration (FDA) is announcing its intention to receive and consider a single source application for the award of a cooperative agreement in fiscal year 2009 (FY09) to the University of Florida for the support of the Seafood Hazard Analysis and Critical Control Points (HACCP) Alliance for Education and Training. The goal of the Seafood HACCP Alliance for Education and Training is to provide partial support, periodic clerical assistance, and personnel travel to national and international events and committee meetings.

DATES: Important dates are as follows:

1. The application due date is August 24, 2009.

2. The anticipated start date is in September 2009.

3. The opening date is August 3, 2009.

4. The expiration date is August 25, 2009.

FOR FURTHER INFORMATION AND ADDITIONAL REQUIREMENTS CONTACT:

Center Contact: Barbara Kennedy, Center for Food Safety and Applied Nutrition (HFS-669), 5100 Paint Branch Pkwy., College Park, MD 20740, 301-436-2056, e-mail: Barbara.Kennedy@fda.hhs.gov.

Scientific/Programmatic Contact: Stanley Serfling, Center for Food Safety and Applied Nutrition (HFS-325), 5100 Paint Branch Pkwy., College Park, MD 20740, 301-436-2320, e-mail: stanley.serfling@fda.hhs.gov.

Grants Management Contact: Camille Peake, Division of Acquisition Support and Grants (HFA-500), Food and Drug Administration , 5630 Fishers Lane, rm. 2139, Rockville, MD 20857, 301-827-7175, FAX: 301-827-7101, e-mail: Camille.Peake@fda.hhs.gov.

For more information on this funding opportunity announcement (FOA) and to obtain detailed requirements, please refer to the full FOA located at http://www.cfsan.fda.gov.

SUPPLEMENTARY INFORMATION:

I. Funding Opportunity Description

RFA-FD-09-014

Catalog of Federal Domestic Assistance Number: 93.103

A. Background

This FOA issued by the Office of Food Safety is soliciting a sole source grant application from University of Florida that proposes to provide funding in support of the Seafood HACCP Alliance for Education and Training. The Seafood HACCP Alliance remains the primary training and educational program supporting both regulatory and commercial governance of seafood and aquaculture product safety in the U.S.A. FDA actively participates with the Alliance and values their educational programs, which are essential and consistent with the prevailing federal mandates for HACCP education and training for commercial interests and inspectors in state and federal agencies. Our funds will provide partial support, periodic clerical assistance, and personnel travel to national and international events and committee meetings. These are pertinent to the Alliance Steering Committee objectives: Related supplies for communications and educational programs, telecommunication and computer equipment for communications and production of educational materials, and possible part-time student labor for temporary assignments.

B. Research Objectives

The Seafood HACCP Alliance remains the primary training and educational program supporting both regulatory and commercial governance of seafood and aquaculture product safety in the U.S.A.

Leadership for the Alliance has been anchored in the Florida Sea Grant College Program based at the University of Florida since its beginning in 1994. The Alliance continues to function under the structure of a formal Steering Committee, which is built on a backbone of cooperative extension services aligned with representation from every pertinent federal agency, i.e., the U.S. Department of Agriculture, FDA, and the U.S. Department of Commerce, and the leading national seafood trade associations, i.e., National Fisheries Institute and the National Food Processors Association (recently changed to the Seafood Processors Association). This is a large, complex, and multifaceted effort that involves every pertinent state regulatory agency in the nation with protocols established through the Association of Food & Drug Officials (AFDO) and the six regional AFDO affiliates. The protocols include standards for approving training materials, trainers, and courses, and procedures for certifications and records for course graduates and evaluations. This organizational structure has involved every state in the nation and every cooperative extension program in the respective state universities. The Alliance is well recognized across the nation and about the world, and their educational services are expected. This network remains experienced and poised for continuing services.

In addition, FDA will support the general management of the Seafood HACCP Alliance as positioned in the Florida Sea Grant College Program at the University of Florida. The activities associated with Alliance Steering Committee objectives are multifaceted and involve numerous individuals about the nation working through the wide variety of programs. These working arrangements have been in operation and productive for well over 10 years.

This cooperative agreement will enable the University of Florida to continue and strengthen the valued utility and proven impacts of the existing Seafood HACCP Alliance for Education and Training through updates, additions, and new programs that address the changes in seafood safety risks, regulations, and commerce that have occurred through the past decade. These changes are particularly necessary to address the emerging concerns for imported products and new regulatory guidance anticipated in early 2009.

C. Eligibility Information

Competition is limited to the University of Florida. FDA believes that continued support of Seafood HACCP Alliance for Education and Training is appropriate because the University of Florida is uniquely qualified to fulfill the objectives of the proposed cooperative agreement.

II. Award Information/Funds Available

A. Award Amount

The estimated amount of funds available for support in FY09 will be for up to $115,000 total costs (direct plus indirect costs), with the possibility of 4 additional years of support for up to $460,000, subject to the availability of funds. Future year amounts will depend on annual appropriations and successful performance.

B. Length of Support

The award will provide 1 year of support and include future recommended support for 4 additional years, contingent upon satisfactory performance in the achievement of project and program reporting objectives during the preceding year and the availability of Federal FY appropriations.

III. Paper Application, Registration, and Submission Information

To submit a paper application in response to this FOA, applicants should first review the full announcement located at http://www.cfsan.fda.gov. A copy of the full text of this announcement will be posted on FDA's Center for Food Safety and Applied Nutrition Web site at http://www.cfsan.fda.gov. Click on “National Food Safety Program;” click www.Food Safety.gov; click Search & Site index; search on “CFSAN Grants.” (FDA has verified the Web site addresses, but FDA is not responsible for any subsequent changes to the Web sites after this document publishes in the Federal Register.) Persons interested in applying for a grant may obtain an application from the PHS 398 application instructions available at http://grants.nih.gov/grants/forms.htm. (FDA has verified the Web site addresses throughout this document, but FDA is not responsible for any subsequent changes to the Web sites after this document publishes in the Federal Register.) For paper submissions, the following steps are required:

• Step 1: Obtain a Dun and Bradstreet Number (DUNS)

• Step 2: Register With Central Contractor Registration

• Step 3: Register With Electronic Research Administration (eRA) Commons

Steps 1 and 2, in detail, can be found at: http://www07.grants.gov/applicants/organization_registration.jsp. Step 3, in detail, can be found at https://commons.era.nih.gov/commons/registration/registrationInstructions.jsp.

After you have followed these steps, submit paper applications to: Camille Peake (see FOR FURTHER INFORMATION AND ADDITIONAL REQUIREMENTS CONTACT).

Dated: July 27, 2009.
Jeffrey Shuren,
Associate Commissioner for Policy and Planning.

[FR Doc. E9-18416 Filed 7-31-09; 8:45 am]

BILLING CODE 4160-01-S